DEPARTMENT OF THE INTERIOR

Bureau of Reclamation

Battle Creek Salmon and Steelhead Restoration Project (Restoration Project) Tehama and Shasta Counties, CA

AGENCY: Bureau of Reclamation, U.S. Department of the Interior.

ACTION: Notice of availability of draft supplemental environmental impact statement/revised environmental impact report (Draft SEIS/REIR).

SUMMARY: Pursuant to section 102(2)(c) of the National Environmental Policy Act of 1969 (NEPA), CEQ NEPA Regulations (40 CFR 1502.9[c][1]), and Public Resources Code, sections 21000-21177 of the California Environmental Quality Act (CEQA) and the California Code of Regulations, title 14, section 15088.5 of the CEQA Guidelines, the Bureau of Reclamation the lead Federal agency, the Federal Energy Regulatory Commission (FERC), a cooperating Federal agency, and the State Water Resources Control Board (SWRCB), the lead State agency, have made available for public review and comment a Draft SEIS/REIR for the Battle Creek Salmon and Steelhead Restoration Project (Restoration Project).

The notice of availability of the original joint Draft Environmental Impact Statement/Environmental Impact Report) (Draft EIS/EIR) and notice of public workshop and notice of public hearing was published in the Federal Register on Friday July 18, 2003 (68 FR 42758). Numerous comments addressing a wide range of issues were received on the Draft EIS/EIR, with some warranting circulation of supplemental/revised information to the original joint environmental document.

The Draft SEIS/REIR will disclose a new environmental analysis and propose mitigation regarding the increased risk of fish disease infection at private aquaculture facilities through the increase of naturally-spawning Battle Creek salmon and steelhead species under the Restoration Project. In addition, the Draft SEIS/REIR will disclose the potentially significant environmental effects of spreading certain harmful fish diseases from Battle Creek via private trout aquaculture operations that transfer trout from facilities in the Project Area to other State waters. The Draft SEIS/REIR will also disclose information regarding the 8 Dam Removal alternative and its dismissal from further consideration.

DATES: Public comments on the Draft SEIS/REIR should be submitted on or before April 29, 2005, to both Ms. Mary Marshall and Mr. Jim Canaday at the addresses below.

ADDRESSES: Written comments on the Draft SEIS/REIR should be addressed to Ms. Mary Marshall, Bureau of Reclamation, 2800 Cottage Way, Sacramento, CA 95825 (e-mail: mmarshall@mp.usbr.gov); and Mr. Jim Canaday, State Water Resources Control Board, 1001 I Street, Sacramento, CA 95814 (e-mail: jcanaday@waterrights.swrcb.ca.gov).

Requests for a compact disk or a bound copy of the Draft SEIS/REIR should be addressed to Dr. Rosemary Stefani, Bureau of Reclamation, 2800 Cottage Way, Sacramento, CA 95825, telephone: (916) 978-5309, or e-mail: rstefani@mp.usbr.gov.

FOR FURTHER INFORMATION CONTACT: Ms. Mary Marshall at (916) 978-5248, TDD (916) 978-5608, e-mail: mmarshall@mp.usbr.gov or Mr. Jim Canaday at (916) 341-5308, e-mail: jcanaday@waterrights.swrcb.ca.gov.

SUPPLMENTARY INFORMATION: Copies of the Draft SEIS/REIR are available for public review at the following locations:

• Tehama County Library, 645 Madison, Red Bluff, CA 96080, (530) 527-0604

• Shasta County Library, 1855 Shasta Street, Redding, CA 96001, (530) 225-5769

• Susanville Library, Lassen County, 1618 Main Street, Susanville, CA 96130, (530) 251-8127

• Bureau of Reclamation, Red Bluff Field Office, 22500 Altube Avenue, Red Bluff, CA 96080, (530) 529-3890

• Bureau of Reclamation, Office of Public Affairs, 2800 Cottage Way, Sacramento, CA 95825-1898, (916) 978-5100

• Bureau of Reclamation, Denver Office Library, Building 67, Room 167, Denver Federal Center, 6th and Kipling, Denver, CO 80225, (303) 445-2072

• Natural Resources Library, U.S. Department of the Interior, 1849 C Street NW., Main Interior Building, Washington, DC 20240-0001

• State Water Resources Control Board, Division of Water Rights, 1001 I Street, 14th Floor, Sacramento, CA 95814, (916) 341-5300

Public Disclosure Statement

Comments, including names and home addresses of respondents, will be made available for public review. Individual respondents may request that their home address be withheld from public disclosure, which will be honored to the extent allowable by law. There may be circumstances in which a respondent's identity may also be withheld from public disclosure, as allowable by law. If you wish to have your name and/or address withheld, you must state this prominently at the beginning of your comment. All submissions from organizations or businesses, and from individuals identifying themselves as representatives or officials of organizations or businesses, will be made available for public disclosure in their entirety.

Dated: January 7, 2005.
Kirk C. Rodgers,
Regional Director, Mid-Pacific Region.

[FR Doc. 05-3930 Filed 2-28-05; 8:45 am]

BILLING CODE 4310-MN-P